DEPARTMENT OF TRANSPORTATION

Federal Motor Carrier Safety Administration

49 CFR Parts 365, 387 and 390

[Docket No. FMCSA-2021-0188]

Applicability of the Registration, Financial Responsibility, and Safety Regulations to Motor Carriers of Passengers

AGENCY: Federal Motor Carrier Safety Administration (FMCSA), Department of Transportation (DOT).

ACTION: Interpretive rule; correction.

SUMMARY: In an interpretive rule published in the Federal Register on November 15, 2022, FMCSA added appendices to the Federal Motor Carrier Safety Regulations (FMCSRs) to explain existing statutes and regulations FMCSA administers related to: the applicability of the FMCSRs, including the financial responsibility regulations, to motor carriers of passengers operating in interstate commerce, including limitations on such applicability based on characteristics of the vehicle operated or the scope of operations conducted; and the applicability of commercial operating authority registration based on the Agency's jurisdiction over motor carriers of passengers, regardless of vehicle characteristics, when operating for-hire in interstate commerce. The interpretive rule contained an error in the docket number, errors in the address section, and errors in the SUPPLEMENTARY INFORMATION section.

DATES: This correction is effective November 28, 2022. Comments on the interpretive rule must still be received on or before January 17, 2023.

FOR FURTHER INFORMATION CONTACT: Mr. Peter Chandler, Team Leader, Passenger Carrier Safety Division, (202) 366-5763, peter.chandler@dot.gov.

SUPPLEMENTARY INFORMATION:

In FR Doc. 2022-24089 appearing on page 68367 in the Federal Register of November 15, 2022, the following corrections are made:

1. On page 68367, in the third column, remove the docket number which reads “FMCSA-2020-0188” and add in its place “FMCSA-2021-0188”.

2. On page 68368, in the first column, under addresses, remove “FMCSA-2016-0352” and add in its place “FMCSA-2021-0188” in both places it appears.

3. On page 68368, in the second column, under submitting comments, remove “FMCSA-2020-0188” and add in its place “FMCSA-2021-0188” in both places it appears.

4. On page 68368, in the third column, under submitting comments, remove “FMCSA-2020-0188” and add in its place “FMCSA-2021-0188”.

Issued under authority delegated in 49 CFR 1.87.
Larry W. Minor,
Associate Administrator for Policy.

[FR Doc. 2022-25443 Filed 11-25-22; 8:45 am]

BILLING CODE 4910-EX-P